DEPARTMENT OF COMMERCE

National Oceanic and Atmospheric Administration

50 CFR Part 622

RIN 0648-AY10

Fisheries of the Caribbean, Gulf of Mexico, and South Atlantic; Snapper-Grouper Fishery off the Southern Atlantic States; Amendment 17A

AGENCY: National Marine Fisheries Service (NMFS), National Oceanic and Atmospheric Administration (NOAA), Commerce.

ACTION: Notice of Availability of Amendment 17A to South Atlantic Snapper-Grouper Fishery Management Plan; request for comments.

SUMMARY: The South Atlantic Fishery Management Council (Council) has submitted Amendment 17A to the Fishery Management Plan for the Snapper-Grouper Fishery of the South Atlantic Region (FMP) for review, approval, and implementation by NMFS. The amendment proposes to establish a rebuilding plan for red snapper, specify a proxy for the fishing mortality rate that will produce the maximum sustainable yield (MSY), specify the optimum yield (OY), specify the value for the minimum stock size threshold (MSST), and specify an annual catch limit (ACL) and accountability measures (AMs) for red snapper. Amendment 17A would also prohibit harvest and possession of red snapper in or from Federal waters of the South Atlantic and in or from state waters for vessels holding a Federal snapper-grouper permit, and implement an area closure that extends from southern Georgia to northern Florida where all harvest and possession of snapper-grouper would be prohibited (except when fishing with black sea bass pots or spearfishing gear for species other than red snapper). Additionally, Amendment 17A would require the use of non-stainless steel circle hooks north of 28° N. lat. and require a monitoring program for South Atlantic red snapper. The actions contained in Amendment 17A are intended to end overfishing of South Atlantic red snapper and rebuild the fishery.

DATES: Comments must be received no later than 5 p.m., eastern time, on September 27, 2010.

ADDRESSES: You may submit comments, identified by “0648-AY10”, by any one of the following methods:

• Electronic Submissions: Submit all electronic public comments via the Federal e-Rulemaking Portal http://www.regulations.gov.

• Fax: 727-824-5308, Attn: Kate Michie.

• Mail: Kate Michie, Southeast Regional Office, NMFS, 263 13th Avenue South, St. Petersburg, FL 33701.

Instructions: No comments will be posted for public viewing until after the comment period is over. All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, enter “NOAA-NMFS-2010-0035” in the keyword search, then check the box labeled “Select to find documents accepting comments or submissions”, then select “Send a Comment or Submission.” NMFS will accept anonymous comments (enter N/A in the required fields, if you wish to remain anonymous). Attachments to electronic comments will be accepted in Microsoft Word, Excel, WordPerfect, or Adobe PDF file formats only.

Copies of Amendment 17A may be obtained from the South Atlantic Fishery Management Council, 4055 Faber Place, Suite 201, North Charleston, SC 29405; phone: 843-571-4366 or 866-SAFMC-10 (toll free); fax: 843-769-4520; e-mail: safmc@safmc.net. Amendment 17A includes an Environmental Assessment, an Initial Regulatory Flexibility Analysis, a Regulatory Impact Review, and a Social Impact Assessment/Fishery Impact Statement.

FOR FURTHER INFORMATION CONTACT: Kate Michie, telephone: 727-824-5305; fax: 727-824-5308; e-mail: Kate.Michie@noaa.gov.

SUPPLEMENTARY INFORMATION: The South Atlantic snapper-grouper fishery is managed under the FMP. The FMP was prepared by the Council and implemented by NMFS under the authority of the Magnuson-Stevens Fishery Conservation and Management Act (Magnuson-Stevens Act) by regulations at 50 CFR part 622.

Background

Amendment 17A would specify a proxy for the fishing mortality rate that will produce the maximum sustainable yield (FMSY). The Council recommended that the status quo FMSY proxy (F30%%SPR) be maintained until the Southeast Fisheries Science Center is able to conduct a comprehensive review of how FMSY proxies should be applied across all southeastern fisheries. The Council also suggested that the decision to apply a specific FMSY proxy should try to be made comprehensively, rather than on a species-by-species basis. Therefore, the Council determined it would be advantageous to first determine what methodology would be most appropriate for assigning FMSY proxies to species/stocks across all southeast fisheries before proceeding with a change to the current FMSY proxy for red snapper.

The Magnuson-Stevens Act requires that a rebuilding plan be specified for any federally-managed species determined to be overfished. Rebuilding plans consist of a rebuilding schedule and a rebuilding strategy. Amendment 17A would define a rebuilding schedule of 35 years for red snapper. The rebuilding time period would end in 2044.

The Council chose a rebuilding strategy equal to 98 percent of FMSY (98 percent of F30%%SPR) based a constant FREBUILD of 0.145, and the ACL would be zero. Under this rebuilding strategy, an initial 76 percent reduction in total mortality would be required, and the optimum yield value would be 2,425,000 lbs (1,083,632 kg) whole weight with a 53 percent probability of rebuilding by 2044. The Council chose an ACL of zero and an AM for red snapper that would include monitoring the catch per unit effort that uses data from fishery-independent and fishery-dependent data sources to track changes in biomass.

In order to reach the rebuilding goal within the specified timeframe, the Council chose to prohibit all harvest and possession of red snapper in or from the South Atlantic exclusive economic zone (EEZ), and in or from state waters for vessels holding Federal snapper-grouper permits. To address the issue of red snapper bycatch in the snapper-grouper fishery, NMFS proposes to implement a snapper-grouper closed area that extends from southern Georgia to northern Florida between the depths of 98 ft (30 m) to 240 ft (73 m). Within the closed area all harvest and possession of snapper-grouper would be prohibited except when fishing with black sea bass pots or spearfishing gear for species other than red snapper. Transit through the proposed closed area for vessels with species other than red snapper onboard would be permitted with gear appropriately stowed.

To further reduce bycatch mortality of red snapper while targeting other snapper-grouper species, Amendment 17A would require the use of non-stainless steel circle hooks when fishing with hook-and-line gear north of 28° N. lat. Amendment 17A also requires a red snapper monitoring program that would utilize, but not be limited to, fishery-independent data collection methods. The program would be designed to monitor rebuilding progress of the stock, and data would be employed in red snapper assessments. Stock assessments would be used to determine if the stock is rebuilding, or if additional regulatory modifications are needed to end overfishing.

The Council has submitted Amendment 17A for Secretarial review, approval, and implementation. NMFS' decision to approve, partially approve, or disapprove Amendment 17A will be based, in part, on consideration of comments, recommendations, and information received during the comment period on this notice of availability. After consideration of these factors, and consistency with the Magnuson-Stevens Act and other applicable laws, NMFS will publish a notice of agency action in the Federal Register announcing the Agency's decision to approve, partially approve, or disapprove Amendment 17A, and the associated rationale.

Proposed Rule for Amendment 17A

A proposed rule that would implement measures outlined in Amendment 17A has been received from the Council. In accordance with the Magnuson-Stevens Act, NMFS is evaluating Amendment 17A to determine whether it is consistent with the FMP, the Magnuson-Stevens Act, and other applicable law. If an affirmative determination is made, NMFS will publish the proposed rule in the Federal Register for public review and comment.

Consideration of Public Comments

Comments received by September 27, 2010, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: July 26, 2010.
Carrie Selberg,
Acting Director, Office of Sustainable Fisheries, National Marine Fisheries Service.

.

[FR Doc. 2010-18662 Filed 7-26-10; 4:15 pm]

BILLING CODE 3510-22-P